DEPARTMENT OF AGRICULTURE

Food and Nutrition Service

Agency Information Collection Activities: Proposed Collection; Comment Request—Report of the Child and Adult Care Food Program

AGENCY: Food and Nutrition Service, USDA.

ACTION: Notice.

SUMMARY: In accordance with the Paperwork Reduction Act of 1995, this notice invites the general public and other public agencies to comment on proposed information collections. The proposed collection is an extension of a currently approved collection. The purpose of the Report of the Child and Adult Care Food Program is to collect Program activity information from eligible programs that provide nutritious meals and snacks to Program participants.

DATES: Written comments must be submitted by September 29, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments maybe sent to: Ms. Cynthia Long, Director, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically.

All responses to this notice will be summarized and included in the request for OMB approval, and will become a matter of public record.

FOR FURTHER INFORMATION CONTACT: Request for additional information or copies of the information collection form and instructions should be directed to: Ms. Cynthia Long at (703) 305-2590.

SUPPLEMENTARY INFORMATION: Title: Report of the Child and Adult Care Food Program.

OMB Number: 0584-0078.

Form Number: FNS-44.

Expiration Date: March 31, 2009.

Type of Request: Extension of a currently approved collection.

Abstract: The purpose of the Report of the Child and Adult Care Food Program is to collect information from eligible programs that provide nutritious meals and snacks to Program participants. The Child and Adult Care Food Program is mandated by Section 17 of the Richard B. Russell National School Lunch Act (42 U.S.C. 1766). Program implementing regulations are contained in 7 CFR part 226. In accordance with 226.7(d), State agencies must submit a monthly report of program activity in order to receive Federal reimbursement for meals served to eligible participants.

Affected Public: State Agencies.

Estimated Time per Response: 3 hours.

Estimated Number of Respondents: 55 respondents.

Estimated Number of Annual Responses per Respondent: 12 responses.

Estimated Total Annual Burden on Respondents: 1,980 annual burden hours.

Dated: July 22, 2008.
Roberto Salazar,
Administrator, Food and Nutrition Service.

[FR Doc. E8-17372 Filed 7-29-08; 8:45 am]

BILLING CODE 3410-30-P